DEPARTMENT OF TRANSPORTATION

Coast Guard

[USCG 2001-9939]

Information Collections Under Review by the Office of Management and Budget (OMB): 2115-0637, 2115-0054, and 2115-0585

AGENCY: Coast Guard, DOT.

ACTION: Request for comments.

SUMMARY: In compliance with the Paperwork Reduction Act of 1995, this request for comments announces that the Coast Guard has forwarded the three Information Collection Reports (ICRs) abstracted below to OMB for review and comment. Our ICRs describe the information we seek to collect from the public. Review and comment by OMB ensure that we impose only paperwork burdens commensurate with our performance of duties.

DATES: Please submit comments on or before October 26, 2001.

ADDRESSES: Please send comments to (1) the Docket Management System (DMS), U.S. Department of Transportation (DOT), room PL-401, 400 Seventh Street SW., Washington, DC 20590-0001; and (2) the Office of Information and Regulatory Affairs (OIRA), Office of Management and Budget (OMB), 725 17th Street NW., Washington, DC 20503, to the attention of the Desk Officer for the USCG.

Copies of the complete ICRs are available for inspection and copying in public docket USCG 2001-9939 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION

Regulatory History

This request constitutes the 30-day notice required by OMB. The Coast Guard has already published [66 FR 34311 (June 27, 2001)] the 60-day notice required by OMB. That notice elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2001-9939. Comments to OIRA are best assured of having their full effect if OIRA receives them 30 or fewer days after the publication of this request.

Information Collection Requests

1. Title: Voyage-Planning for Tank-Barge Transits in the Northeast United States.

OMB Control Number: 2115-0637.

Type of Request: Extension of a currently approved collection.

Affected Public: Owners and operators of towing vessels.

Forms: This collection of information does not require the public to fill out Coast Guard forms, but does require the master of a towing vessel to prepare a voyage plan that is necessary for the safe operation of the vessel.

Abstract: The information collected for a voyage plan serves as a preventive measure and assists in ensuring the successful execution and completion of a voyage in the First Coast Guard District. This rule [33 CFR 165.100] applies primarily to towing vessels engaged in towing certain tank barges carrying petroleum oil in bulk as cargo.

Annual Estimated Burden Hours: The estimated burden is 439 hours a year.

2. Title: Welding and Hot-Work Permits; Posting of Warning Signs.

OMB Control Number: 2115-0054.

Type of Request: Extension of a currently approved collection.

Affected Public: Owners and operators of certain waterfront facilities and vessels.

Form: CG-4201.

Abstract: The information collected here helps ensure that waterfront facilities and vessels are in compliance with safety standards. A permit must be issued before welding or hot work on certain waterfront facilities; and the posting of warning signs is required on certain facilities.

Annual Estimated Burden Hours: The estimated burden is 226 hours a year.

3. Title: Approval of Alterations to Marine Portable Tanks; Approval of Non-Specification Portable Tanks.

OMB Control Number: 2115-0585.

Type of Request: Extension of a currently approved collection.

Affected Public: Owners of marine portable tanks and owners and designers of non-specification portable tanks.

Form: This collection of information does not require the public to fill out Coast Guard forms, but does require owners or manufacturers who want to alter marine portable tanks to request a written approval from the Coast Guard Marine Safety Center.

Abstract: The information helps us evaluate the safety of proposed alterations to marine portable tanks and to designs of such tanks used to transfer hazardous materials during offshore operations, such as those on drilling rigs. Respondents are those who wish to alter existing marine portable tanks or use non-specification portable tanks.

Annual Estimated Burden Hours: The estimated burden is 18 hours a year.

Dated: September 19, 2001.
V.S. Crea,
Director of Information and Technology.

[FR Doc. 01-24109 Filed 9-25-01; 8:45 am]

BILLING CODE 4910-15-P